DEPARTMENT OF COMMERCE

International Trade Administration

(A-357-818/Argentina) (A-201-835/Mexico)

Lemon Juice from Argentina and Mexico: Postponement of Final Antidumping Duty Determinations and Extension of Provisional Measures

AGENCY: Import Administration, International Trade Administration, Department of Commerce.

EFFECTIVE DATE: May 23, 2007.

FOR FURTHER INFORMATION CONTACT: Joshua Reitze (Argentina) or Edythe Artman (Mexico), AD/CVD Operations, Import Administration, International Trade Administration, U.S. Department of Commerce, 14th Street and Constitution Avenue, NW, Washington, DC 20230; telephone: (202) 482-0666, or (202) 482-3931, respectively.

SUPPLEMENTARY INFORMATION:

Postponement of Final Determinations

The Department of Commerce (Department) is postponing the final determinations in the antidumping duty investigations of lemon juice from Argentina and Mexico. These investigations were initiated on October 11, 2006. See Initiation of Antidumping Duty Investigations: Lemon Juice from Argentina and Mexico, 71 FR 61710 (October 19, 2006). On April 26, 2007, the Department published its preliminary determinations in these investigations. See Lemon Juice from Argentina: Preliminary Determination of Sales at Less Than Fair Value and Affirmative Preliminary Determination of Critical Circumstances, 72 FR 20820 (April 26, 2007), and Notice of Preliminary Determinations of Sales at Less Than Fair Value and of Critical Circumstances in Part: Lemon Juice from Mexico, 72 FR 20830 (April 26, 2007). These notices stated that the Department would issue its final determinations no later than 75 days after the date on which the Department issued its preliminary determinations.

Section 735(a)(2)(A) of the Tariff Act of 1930, as amended (the Act), and 19 CFR 351.210(b)(2)(ii) provide that a final determination may be postponed until no later than 135 days after the date of the publication of the preliminary determination if, in the event of an affirmative preliminary determination, a request for such postponement is made by exporters who account for a significant proportion of exports of the subject merchandise. Additionally, 19 CFR 351.210(e)(2) requires that requests by a respondent for postponement of a final determination be accompanied by a request for an extension of the provisional measures from a four-month period to not more than six months.

On April 25, 2007, in accordance with section 735(a)(2)(A) of the Act and 19 CFR 351.210(b)(2)(ii) and (e)(2), Citrusvil, S.A. and S.A. San Miguel A.G.I.C.y F. (the two respondents in the investigation of lemon juice from Argentina) requested that the Department: (1) postpone the final determination in the Argentina investigation, and (2) extend the provisional measures period in the Argentina investigation from four months to a period not longer than six months. These two companies account for a significant proportion of exports of subject merchandise from Argentina. In addition, on April 26, 2007, The Coca-Cola Company and a subsidiary, The Coca-Cola Export Corporation, Mexico Branch (respondent in the investigation of lemon juice from Mexico), also requested that the Department: (1) postpone the final determination in the Mexico investigation, and (2) extend the provisional measures period in the Mexico investigation from four months to a period not longer than six months. This company accounts for a significant proportion of exports of subject merchandise from Mexico.

Accordingly, pursuant to section 735(a)(2)(A) of the Act and 19 CFR 351.210(b)(2)(ii), the Department is postponing the final determinations until no later than 135 days after the publication of the preliminary determinations in the Federal Register for the following reasons: (1) the preliminary determinations in these investigations were affirmative; (2) the requesting producers/exporters account for a significant proportion of exports of the subject merchandise in these investigations and they requested the extension of provisional measures; and (3) no compelling reasons for denial exist. The new statutory deadline for the final determinations is September 8, 2007. Because September 8, 2007, is a Saturday, the Department will issue the final determinations no later than September 10, 2007. Provisional measures will be extended in accordance with 19 CFR 351.210(e)(2) and section 733(d) of the Act.

This notice is issued and published pursuant to sections 777(i) of the Act and 19 CFR 351.210(g).

Dated: May 17, 2007.
David M. Spooner,
Assistant Secretary for Import Administration.

[FR Doc. E7-9926 Filed 5-22-07; 8:45 am]

BILLING CODE 3510-DS-P